Title 3—

The President

Proclamation 10990 of November 10, 2025

250th Anniversary of the Founding of the United States Marine Corps

By the President of the United States of America

A Proclamation

For two and a half centuries, the United States Marine Corps has stood as a living force of American courage, discipline, and unity. From the birth of our Republic to the challenges of the modern world, the Marines have always proven that they can accomplish any task, defend any shore, and defeat any enemy. As the United States approaches 250 years of independence, we give thanks to Almighty God for the steadfast men and women of the Marine Corps and we thank every Marine who has carried the defense of our country upon their shoulders with valor and devotion.

The Marine Corps was born in the fires of revolution when the Second Continental Congress established the Continental Marines by resolution on November 10, 1775. From the first combat action at Nassau in 1776, Marines have proven to be ruthless in battle, and lethal guardians of liberty and justice. From that moment onward, the Marines have helped shape the destiny of our Nation, fighting beside Andrew Jackson at the Battle of New Orleans, standing firm in the trenches of World War I at Belleau Wood, where they earned the nickname “Devil Dogs,” and seizing victory after victory across the Pacific at Guadalcanal, Iwo Jima, and Okinawa. They confronted communism in Korea and Vietnam, upheld the right to self-government in the Persian Gulf, and brought justice to our enemies in the deserts and mountains of the Global War on Terror. Marines protect our embassies abroad, and ensure our Federal law enforcement can do their jobs here at home. Wherever liberty has been threatened, the Marine Corps has answered with strength, courage, and unyielding honor.

At Iwo Jima, the world witnessed why the United States Marine Corps stands as the tip of the spear—the lead force that strikes first and holds the line when freedom is on the brink. On the morning of February 19, 1945, during World War II, the Marines launched one of the most consequential and grueling campaigns in our Nation's history. Against relentless fire and unyielding resistance from the Japanese Imperial Army, our Marines stormed the black sand shores, raised the stars and stripes over Mount Suribachi, and proved that no enemy could break the spirit of the American warrior. The battle was defined by massive casualties, but also extraordinary acts of gallantry—22 Marines received the Medal of Honor for their valor, the most ever awarded for a single battle in American history. Their triumph at Iwo Jima advanced America's cause in the Pacific and set a timeless standard for Marines who serve, defined by honor, courage, and unwavering commitment to country.

Today, the United States Marine Corps continues to stand as the shield and spear of our Republic. Their courage in combat, disciplined precision, and relentless endurance are admired around the world, sure in the knowledge that true peace is secured only by superior strength. Our Marines now serve under a mission-driven Department of War, hyper-focused on military readiness, and they are receiving our best resources and unrelenting support. My Administration is committing more than $150 billion to forge a leaner, more lethal force fit for the twenty-first century. With our investments in shipbuilding, missile defense, and advanced capabilities, my Administration is providing our Marines with every operational advantage so they can continue to ensure American strength prevails in every domain. Under my leadership, I will always have the backs of our Marines and make certain they are never constrained in exercising their legendary, indomitable warrior spirit.

From the halls of Montezuma to the shores of Tripoli, the United States Marines have time and again carved their names into history. Their motto, Semper Fidelis, meaning always faithful, speaks to the enduring strength of the Corps and to the greatness of the country they defend—one Nation, under God, steadfast, and forever free.

NOW, THEREFORE, I, DONALD J. TRUMP, President of the United States of America, by virtue of the authority vested in me by the Constitution and the laws of the United States, do hereby proclaim November 10, 2025, as a day to commemorate the 250th anniversary of the founding of the United States Marine Corps. I call upon all Government officials to display the flag of the United States over Government buildings, and I encourage the American people to display the flag and hold appropriate ceremonies as an expression of our Nation's gratitude and respect for the Marine Corps' valiant heritage.

IN WITNESS WHEREOF, I have hereunto set my hand this tenth day of November, in the year of our Lord two thousand twenty-five, and of the Independence of the United States of America the two hundred and fiftieth.

[FR Doc. 2025-19994

Filed 11-13-25; 2:00 pm]

Billing code 3395-F4-P